DEPARTMENT OF COMMERCE

National Oceanic and Atmospheric Administration

[I.D. 071905C]

Fisheries of the Caribbean, Gulf of Mexico, and South Atlantic; South Atlantic Snapper Grouper Regulatory Amendment

AGENCY: National Marine Fisheries Service (NMFS), National Oceanic and Atmospheric Administration (NOAA), Commerce.

ACTION: Notice; intent to prepare a draft environmental impact statement (DEIS); supplement.

SUMMARY: NMFS and the South Atlantic Fishery Management Council (Council) are evaluating the environmental impacts of a range of management actions for red porgy, black sea bass, vermilion snapper, snowy grouper, and golden tilefish in a DEIS. These management actions are being developed in a regulatory amendment to the Fishery Management Plan for the Snapper Grouper Fishery of the South Atlantic Region (FMP). This notice is intended to supplement notices published in January 2002 and in September 2003, announcing the preparation of DEISs for FMP Amendments 13 and 13B, respectively.

DATES: Written comments on the scope of the DEIS will be accepted through August 25, 2005.

ADDRESSES: Comments should be sent to Jack McGovern, NMFS Southeast Region, 263 13th Avenue South, St. Petersburg, FL 33701, phone: 727-824-5305; fax: 727-824-5308; e-mail: John.McGovern@noaa.gov.

FOR FURTHER INFORMATION CONTACT: Kim Iverson, Public Information Officer; toll free 1-866-SAFMC-10 or 843-571-4366; kim.iverson@safmc.net.

SUPPLEMENTARY INFORMATION: The snapper grouper fishery operating in the South Atlantic exclusive economic zone is managed under the FMP. Following Council preparation, this FMP was approved and implemented by NMFS in March 1983, under the authority of the Magnuson-Stevens Fishery Conservation and Management Act (Magnuson-Stevens Act).

The Council began developing FMP Amendment 13 in 2001 to address multiple Magnuson-Stevens Act requirements, as well as the scheduled sunset of regulations protecting the Oculina Experimental Closed Area, and other administrative issues. The Notice of Intent (NOI) for the DEIS associated with FMP Amendment 13 was published in the Federal Register on January 31, 2002 (67 FR 4696). A subsequent notice announcing the division of actions in FMP Amendment 13 into FMP Amendments 13A and 13B was published on September 12, 2003 (68 FR 53706). FMP Amendment 13A contained a single action to extend the regulations in the Oculina Experimental Closed Area, and was supported by an Environmental Assessment. The remaining actions in FMP Amendment 13 were transferred to FMP Amendment 13B, for which the Council continued to prepare a DEIS.

Stock assessments have been completed for red porgy, black sea bass, vermilion snapper, golden tilefish, and snowy grouper through the Southeast Data, Assessment, and Review process. The assessments revealed that: all the stocks, except red porgy, are subjected to overfishing; all the stocks, except for golden tilefish and vermilion snapper, are overfished (the biomass level of vermilion snapper is unknown); and the red porgy stock is recovering as planned, indicating the rebuilding schedule approved for that stock in FMP Amendment 12 would support a moderate harvest increase.

It is anticipated that management actions proposed in FMP Amendment 13B will not be implemented until 2007. The Council decided at its June 2005 Council meeting to consider management actions for these five recently assessed stocks in a regulatory amendment as the most practical avenue to address necessary management measures. Regulatory amendments differ from FMP amendments in that they allow the Council to implement specific regulations through abbreviated rulemaking. The FMP outlines the actions that may be implemented and/or adjusted using this regulatory framework process.

This NOI is intended to inform the public that management actions previously considered in FMP Amendment 13B for select stocks are being developed in a regulatory amendment. Proposed actions in this regulatory amendment would address overfishing of black sea bass, vermilion snapper, golden tilefish, and snowy grouper, and increase red porgy harvest to a level supported by the approved rebuilding schedule for that stock. Management measures currently being evaluated for the commercial sector in this DEIS include new or adjusted: catch quotas, size limits, trip limits, seasonal closures, fishing year start dates, and gear restrictions. Management measures currently being evaluated for the recreational sector include new or adjusted: catch allocations, bag limits, size limits, and seasonal closures.

The Council will continue to work on FMP Amendment 13B while preparing the regulatory amendment. Management actions still being considered in FMP Amendment 13B would: redefine, divide into multispecies units, and identify indicator species within the snapper grouper fishery management unit; review and define, as needed, management reference points for snapper grouper stocks; review and define, as needed, rebuilding schedules and strategies for overfished stocks; reduce directed and incidental fishing mortality on select species through new or adjusted catch quotas, seasonal closures, size limits, and/or bag limits; and change permit renewal and transferability provisions. Amendment 13B also will include a bycatch practicability analysis. The full suite of alternatives currently being considered in the regulatory amendment can be obtained from the Council (see ADDRESSES for contact information). The DEIS and/or final EIS (FEIS) associated with this amendment may include additional management measures identified during the public comment processes.

A Federal Register notice will announce the availability of the DEIS associated with this amendment, as well as the 45-day public comment period, pursuant to regulations issued by the Council on Environmental Quality for implementing the National Environmental Policy Act and to NOAA Administrative Order 216-6. NMFS and the Council will consider public comments received on the DEIS in developing the FEIS. NMFS will announce in the Federal Register the availability of the FEIS for public review and will consider all public comments prior to final agency action to approve, disapprove, or partially approve the amendment.

Authority: 16 U.S.C. 1801 et seq.

Dated: July 21, 2005.
Alan D. Risenhoover,
Acting Director, Office of Sustainable Fisheries, National Marine Fisheries Service.

[FR Doc. 05-14722 Filed 7-25-05; 8:45 am]

BILLING CODE 3510-22-S